DEPARTMENT OF DEFENSE

Department of the Navy

Meeting of the Board of Advisors to the President, Naval War College

AGENCY: Department of the Navy, DOD.

ACTION: Notice.

SUMMARY: The Board of Advisors to the President, Naval War College, will meet to discuss educational, doctrinal, and research policies and programs at the Naval War College. This meeting will be open to the public.

DATES: The meeting will be held on August 15, 2000, from 8:30 a.m. to 4:30 p.m., and on August 16, 2000, from 8:30 a.m. to 11:45 a.m.

ADDRESSES: The meeting will be held in Conolly Hall, Naval War College, 686 Cushing Road, Newport, Rhode Island.

FOR FURTHER INFORMATION CONTACT: Mrs. Mary E. Estabrooks, Assistant to the Dean of Academics, Naval War College, 686 Cushing Road, Newport, RI 02841-1207, telephone (401) 841-3589.

SUPPLEMENTARY INFORMATION: This notice of meeting is provided per the Federal Advisory Committee Act (5 U.S.C. App. 2). The purpose of the Board of Advisors meeting is to elicit advice on educational, doctrinal, and research policies and programs. The agenda will consist of presentations and discussions on the curriculum, programs and plans of the College since the last meeting of the Board on 17 and 18 September 1998.

Dated: July 18, 2000.
J.L. Roth,
Lieutenant Commander, Judge Advocate General's Corps,, U.S. Navy, Federal Register Liaison Officer.

[FR Doc. 00-19021 Filed 7-26-00; 8:45 am]

BILLING CODE 3810-FF-P